DEPARTMENT OF ENERGY

Federal Energy Regulatory Commission

[Project No. 14154-001-Idaho]

Mr. William Arkoosh; Notice of Availability of Environmental Assessment

In accordance with the National Environmental Policy Act of 1969 and the Federal Energy Regulatory Commission's regulations, 18 CFR Part 380 (Order No. 486, 52 FR 47,897), the Office of Energy Projects has reviewed the application for an original license to construct the Little Wood River Ranch II Hydropower Project, and has prepared an Environmental Assessment (EA). The proposed 1.23-megawatt project would be located on the Little Wood River, six miles west of the Town of Shoshone, in Lincoln County, Idaho. The project would be located on 119.1 acres of private land and would occupy 3.3 acres of federal lands managed by the U.S. Bureau of Land Management.

The EA includes staff's analysis of the potential environmental impacts of the project and concludes that licensing the project, with appropriate environmental measures, would not constitute a major federal action that would significantly affect the quality of the human environment.

A copy of the EA is available for review at the Commission in the Public Reference Room or may be viewed on the Commission's Web site at http://www.ferc.gov, using the “eLibrary” link. Enter the docket number, excluding the last three digits in the docket number field, to access the document. For assistance, contact FERC Online Support at FERCOnlineSupport@ferc.gov, or toll-free at (866) 208-3676, or for TTY, (202) 502-8659.

You may also register online at http://www.ferc.gov/esubscribenow.htm to be notified via email of new filings and issuances related to this or other pending projects. For assistance, contact FERC Online Support at FERCOnlineSupport@ferc.gov or toll-free at 1-866-208-3676, or for TTY, (202) 502-8659. Please contact Jennifer Harper by telephone at (202) 502-6136, or by email at Jennifer.Harper@FERC.gov, if you have any questions.

Dated: October 25, 2012.
Kimberly D. Bose,
Secretary.

[FR Doc. 2012-27017 Filed 11-5-12; 8:45 am]

BILLING CODE 6717-01-P